DEPARTMENT OF ENERGY

Federal Energy Regulatory Commission

[Docket No. CP95-168-006]

Sea Robin Pipeline Company; Notice of Compliance Filing

April 20, 2001.

Take notice that on April 16, 2001, Sea Robin Pipeline Company (Sea Robin) tendered for filing the pro forma tariff sheets listed on Appendix A attached to the filing.

Sea Robin states that the purpose of this filing is to comply with Ordering Paragraph (C) of the Commission's June 30, 1999 Order in the above-referenced proceeding that Sea Robin “file tariff sheets specifying separately stated gathering rates, not inconsistent with the terms and conditions of its Part 284 tariff provisions, for gathering services performed through facilities located upstream of the Vermillion 149 compressor station.” Sea Robin Pipeline Co., 87 FERC ¶ 61,384, at 62,432 (1999), reh'g denied, 92 FERC ¶ 61,072 (2000), as modified by the Commission's December 15, 2000 Order on Compliance Filing 93 FERC ¶ 61,287, reh'g, 94 FERC ¶ 61,137 (2001). Sea Robin asserts that the filing is submitted within the time provided by the Commission in its January 17, 2001 letter order regarding time for compliance. This filing may be viewed at http://www.ferc.fed.us/online/rims.htm (call 202-208-2222 for assistance).

Sea Robin states that copies of this filing are being served on the parties to the proceeding and appropriate state regulatory agencies.

Any person desiring to be heard or to protest said filing should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at

http://www.ferc.fed.us/efi/doorbell.htm.

Linwood A. Watson, Jr.,
Acting Secretary.

[FR Doc. 01-10326 Filed 4-25-01; 8:45 am]

BILLING CODE 6717-01-M